DEPARTMENT OF HOMELAND SECURITY

Coast Guard

33 CFR Part 165

[Docket Number USCG-2024-0253]

RIN 1625-AA00

Safety Zone; Annual Fireworks Displays Within the Sector Columbia River Captain of the Port Zone

AGENCY: Coast Guard, DHS.

ACTION: Final rule.

SUMMARY: The Coast Guard is amending the regulations establishing safety zones for annual fireworks displays in the Captain of the Port Zone Columbia River. This action updates 12 existing safety zones, adding 2 safety zones for fireworks displays that were previously published under temporary regulations, and reordering the table alphabetically.

DATES: This rule is effective July 3, 2024.

ADDRESSES: To view documents mentioned in this preamble as being available in the docket, go to https://www.regulations.gov, type USCG-2024-0253 in the search box and click “Search.” Next, in the Document Type column, select “Supporting & Related Material.”

FOR FURTHER INFORMATION CONTACT: If you have questions about this rule, call or email Lieutenant Carlie Gilligan, Sector Columbia River Waterways Management Division, U.S. Coast Guard; telephone 503-240-9319, email SCRWWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On April 12, 2024, the Coast Guard published a notice of proposed rulemaking (NPRM) titled Safety Zone; Annual Fireworks Displays Within the Columbia River Captain of the Port Zone (89 FR 25835). There we stated why we issued the NPRM and invited comments on our proposed regulatory action related to this fireworks display. During the comment period that ended May 13, 2024, we received 1 comment.

III. Legal Authority and Need for Rule

The Coast Guard is issuing this rule under authority in 46 U.S.C. 70034. The Captain of the Port Sector Columbia River has determined that fireworks displays create hazardous conditions for the maritime public because of the large number of vessels near the displays, as well as the noise, falling debris, and explosions that occur during the events. Because firework discharge sites pose a potential hazard to the maritime public, these safety zones are necessary to restrict vessel movement and reduce vessel congregation near firework discharge sites.

IV. Discussion of Comments, Changes, and the Rule

As noted above, we received 1 comment on our NPRM published April 12, 2024. However, the concerns were unrelated to the proposed revisions and outside of the scope of Coast Guard authority. There are no changes in the regulatory text of this rule from the proposed rule in the NPRM.

This rule revises the safety zone regulations designated in the table in 33 CFR 165.1315(a). Specifically, this rule alphabetizes the events, makes minor updates to the names of 10 events, updates the location of 1 event (Newport 4th of July), updates the typical date of 1 event (The 4th of July at Pekin Ferry), and adds two events (Umatilla Landing Days and City of Richland Lighted Boat Parade Festival).

The Umatilla Landing Days safety zone was previously issued as a temporary final rule (88 FR 32966, May 23, 2023), and after conferring with the event sponsor, the Coast Guard has learned it will be a recurring fireworks display. This safety zone covers all navigable waters within a 400-foot radius of the fireworks launch site in Umatilla, OR, located at 45°55′37″ N, 119°19′47″ W.

On November 29, 2023, the Coast Guard issued a rulemaking creating a temporary safety zone for all navigable waters within a 600-foot radius of a fireworks display on the Columbia River for the City of Richland Christmas Fireworks display in Richland, WA. A copy of the rulemaking that ended December 2, 2023 is available in the Docket USCG-2024-0253, which can be found using instructions in the ADDRESSES section. After conferring with the event sponsor, the Coast Guard has learned it will become a recurring fireworks display. This new reoccurring safety zone covers all navigable waters within a 600-foot radius of the fireworks launch site in Richland, WA, located at 46°16′29″ N, 119°16′10″ W.

Finally, the Coast Guard is revising twelve existing fireworks display safety zones. These revisions include updating the date for 4th of July at Pekin Ferry to more precisely describe when the fireworks display will occur, updating the location for Newport 4th of July, and making minor name updates to the following events: Brookings, OR July 4th Celebration; Port of Cascade Locks 4th of July Fireworks; Bald Eagle Days; City of Coos Bay July 4th Celebration/Fireworks Over the Bay; The Dalles Area Fourth of July; Ilwaco July 4th Committee Fireworks/Independence Day at the Port; Tri-City Chamber of Commerce Fireworks/Kennewick River of Fire Festival; City of Rainier/Rainier Days; City of St. Helens 4th of July Fireworks; and Cedco Inc./The Mill Casino Independence Day. These updates are intended to eliminate confusion caused by the fireworks display safety zones listed in the 33 CFR 165.1315 table and any subsequently issued temporary safety zones resulting from changes to the dates or locations of the events. The regulatory text appears at the end of this document.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time-of day of the events. Moreover, the Coast Guard will issue a Broadcast Notice to Mariners via VHF-FM and the rule allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves safety zones lasting various times that will prohibit entry within defined areas. Normally such actions are categorically excluded from further review under paragraph L60(a) of appendix A, table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.1315, revise and republish paragraph (a) to read as follows:

§ 165.1315 Safety Zone; Annual Fireworks Displays within the Sector Columbia River Captain of the Port Zone.

(a) Safety zones. The following areas are designated safety zones: Waters of the Columbia River and its tributaries, waters of the Siuslaw River, Yaquina River, Umpqua River, Clatskanie River, Tillamook Bay and waters of the Washington and Oregon Coasts, within a 450-yard radius of the launch site at the approximate locations listed in the following table:

Event name (typically) | Event location | Date of event | Latitude | Longitude
Portland Rose Festival Fireworks | Portland, OR | One day in May or June | 45°30′58″ N | 122°40′12″ W
The 4th of July at Pekin Ferry | Ridgefield, WA | One day in June or July | 45°52′07″ N | 122°43′53″ W
Umatilla Landing Days | Umatilla, OR | One day in June | 45°55′37″ N | 119°19′47″ W
Astoria-Warrenton 4th of July Fireworks | Astoria, OR | One day in July | 46°11′34″ N | 123°49′28″ W
Bandon 4th of July | Bandon, OR | One day in July | 43°07′29″ N | 124°25′05″ W
Brookings July 4th Celebration | Brookings, OR | One day in July | 42°02′39″ N | 124°16′14″ W
Cascade Locks 4th of July Fireworks | Cascade Locks, OR | One day in July | 45°40′15″ N | 121°53′43″ W
Cathlamet Bald Eagle Days | Cathlamet, WA | One day in July | 46°12′14″ N | 123°23′17″ W
Clatskanie Heritage Days Fireworks | Clatskanie, OR | One day in July | 46°6′17″ N | 123°12′02″ W
Fireworks Over the Bay | Coos Bay, OR | One day in July | 43°22′06″ N | 124°12′24″ W
Florence Independence Day Celebration | Florence, OR | One day in July | 43°58′09″ N | 124°05′50″ W
Fort Dalles Fourth of July | The Dalles, OR | One day in July | 45°36′18″ N | 121°10′23″ W
Gardiner 4th of July | Gardiner, OR | One day in July | 43°43′55″ N | 124°06′48″ W
Garibaldi Days Fireworks | Garibaldi, OR | One day in July | 45°33′13″ N | 123°54′56″ W
Hood River 4th of July | Hood River, OR | One day in July | 45°42′58″ N | 121°30′32″ W
Huntington 4th of July | Huntington, OR | One day in July | 44°18′02″ N | 117°13′33″ W
Ilwaco Independence Day at the Port | Ilwaco, WA | One day in July | 46°18′17″ N | 124°02′00″ W
Independence Day at the Fort Vancouver | Vancouver, WA | One day in July | 45°36′57″ N | 122°40′09″ W
July 4th Party at the Port of Gold Beach | Gold Beach, OR | One day in July | 42°25′30″ N | 124°25′03″ W
Kennewick River of Fire Fireworks | Kennewick, WA | One day in July | 46°13′37″ N | 119°08′47″ W
Lincoln City 4th of July | Lincoln City, OR | One day in July | 44°55′28″ N | 124°01′31″ W
Newport 4th of July | Newport, OR | One day in July | 44°37′31″ N | 124°02′5″ W
Oaks Park Association 4th of July | Portland, OR | One day in July | 45°28′22″ N | 122°39′59″ W
Port Orford 4th of July Jubilee | Port Orford, OR | One day in July | 42°44′31″ N | 124°29′30″ W
Rainier Days in the Park | Rainier, OR | One day in July | 46°05′46″ N | 122°56′18″ W
Roseburg Hometown 4th of July | Roseburg, OR | One day in July | 43°12′58″ N | 123°22′10″ W
Splash Aberdeen Waterfront Festival | Aberdeen, WA | One day in July | 46°58′40″ N | 123°47′45″ W
St. Helens 4th of July Fireworks | St. Helens, OR | One day in July | 45°51′54″ N | 122°47′26″ W
The Mill Casino Independence Day | North Bend, OR | One day in July | 43°23′42″ N | 124°12′55″ W
Toledo Summer Festival | Toledo, OR | One day in July | 44°37′08″ N | 123°56′24″ W
Waldport 4th of July | Waldport, OR | One day in July | 44°25′31″ N | 124°04′44″ W
Washougal 4th of July | Washougal, WA | One day in July | 45°34′32″ N | 122°22′53″ W
Waterfront Blues Festival Fireworks | Portland, OR | One day in July | 45°30′42″ N | 122°40′14″ W
Waverly Country Club 4th of July Fireworks | Milwaukie, OR | One day in July | 45°27′03″ N | 122°39′18″ W
Westport 4th of July | Westport, WA | One day in July | 46°54′17″ N | 124°05′59″ W
Winchester Bay 4th of July Fireworks | Winchester Bay, OR | One day in July | 43°40′56″ N | 124°11′13″ W
Yachats 4th of July | Yachats, OR | One day in July | 44°18′38″ N | 124°06′27″ W
Astoria Regatta | Astoria, OR | One day in August | 46°11′34″ N | 123°49′28″ W
Oregon Symphony Concert Fireworks | Portland, OR | One day in August or September | 45°30′42″ N | 122°40′14″ W
Leukemia and Lymphoma Light the Night Fireworks | Portland, OR | One day in October | 45°30′23″ N | 122°40′4″ W
Veterans Day Celebration | The Dalles, OR | One day in November | 45°36′18″ N | 121°10′34″ W
City of Richland Lighted Boat Parade Fireworks | Richland, WA | One weekend in December | 46°16′29″ N | 119°16′10″ W

* * * * *

Dated: May 23, 2024.
J.W. Noggle,
Captain, U.S. Coast Guard, Captain of the Port Sector Columbia River.

[FR Doc. 2024-12047 Filed 5-31-24; 8:45 am]

BILLING CODE 9110-04-P